DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than May 11, 2009.

Interested persons are invited to submit written comments regarding the subject matter of the investigations to the Director, Division of Trade Adjustment Assistance, at the address shown below, not later than May 11, 2009.

The petitions filed in this case are available for inspection at the Office of the Director, Division of Trade Adjustment Assistance, Employment and Training Administration, U.S. Department of Labor, Room N-5428, 200 Constitution Avenue, NW., Washington, DC 20210.

Signed at Washington, DC, this 16th day of April 2009.
Linda G. Poole,
Certifying Officer, Division of Trade Adjustment Assistance.

Appendix
[TAA petitions instituted between 3/30/09 and 4/3/09]
TA-W | Subject firm (petitioners) | Location | Date of institution | Date of petition
65696 | Alcatel/Lucent (Rep) | Plano, TX | 03/30/09 | 11/03/08
65697 | Robin-Lynn Mills, Inc. (Wkrs) | Fort Payne, AL | 03/30/09 | 03/25/09
65698 | Matrix Publishing Services (Comp) | York, PA | 03/30/09 | 03/27/09
65699 | Samuel Aaron, Inc. (Wkrs) | Long Island City, NY | 03/30/09 | 03/26/09
65700 | Weyerhaeuser Raymond Lumber Mill (IAMAW) | Raymond, WA | 03/30/09 | 03/23/09
65701 | Imperium Grays Harbor, LLC (Wkrs) | Hoquiam, WA | 03/30/09 | 03/25/09
65702 | GM Nameplate, Inc. (Wkrs) | Seattle, WA | 03/30/09 | 03/26/09
65703 | Viscotec Auto Products (Wkrs) | Morganton, NC | 03/31/09 | 03/17/09
65704 | Chipblaster, Inc. (Wkrs) | Meadville, PA | 03/31/09 | 03/26/09
65705 | FLA Orthopedics, Inc. (Comp) | Huntersville, NC | 03/31/09 | 03/30/09
65706 | R&B Fabrications (Wkrs) | Oakwood, OH | 03/31/09 | 03/25/09
65707 | Paragon Store Fixtures (Comp) | Big Lake, MN | 03/31/09 | 03/30/09
65708 | Pattison Sign Group (Wkrs) | Limestone, ME | 03/31/09 | 03/25/09
65709 | Mills Products, Inc. (Wkrs) | Athens, TN | 03/31/09 | 03/17/09
65710 | Numonyx—California Technology Center (CTC) (Wkrs) | Santa Clara, CA | 03/31/09 | 03/27/09
65711 | Cadmus Communications (State) | Easton, MD | 03/31/09 | 03/29/09
65712 | Cintas Corporation (Comp) | Portal, GA | 03/31/09 | 03/30/09
65713 | Peterson Manufacturing Company (Comp) | Grandview, MO | 03/31/09 | 03/30/09
65714 | Egide USA, Inc. (State) | Cambridge, MD | 03/31/09 | 03/30/09
65715 | Ram Rod Industries/Prentice (Wkrs) | Prentice, WI | 03/31/09 | 03/24/09
65716 | StarTek, Inc. (Wkrs) | Lynchburg, VA | 03/31/09 | 03/06/09
65717 | Moyno, Inc.—Robbins and Meyers, Inc. (UAW) | Springfield, OH | 03/31/09 | 03/05/09
65718 | Weyerhaeuser/iLevel Dallas Sawmill (Comp) | Dallas, OR | 03/31/09 | 03/26/09
65719 | AGC Flat Glass North America, Inc. (Comp) | Kingsport, TN | 03/31/09 | 03/30/09
65720 | Roseburg Forest Products, Riddle Plywood #4 (CIC) | Riddle, OR | 04/01/09 | 03/27/09
65721 | Roseburg Forest Products, Dillard Particleboard (CIC) | Dillard, OR | 04/01/09 | 03/27/09
65722 | Roseburg Forest Products, Dillard Plywood (CIC) | Dillard, OR | 04/01/09 | 03/27/09
65723 | Eagle Compressor (Wkrs) | Hickman, KY | 04/01/09 | 03/21/09
65724 | Ryerson, Inc. (Wkrs) | Portland, OR | 04/01/09 | 03/26/09
65725 | Roseburg Forest Products, EWP (Union) | Riddle, OR | 04/01/09 | 03/27/09
65726 | Caterpillar (Wkrs) | Aurora, IL | 04/01/09 | 03/17/09
65727 | Tesco Tech (Comp) | Auburn Hills, MI | 04/01/09 | 03/31/09
65728 | NCI Group, Inc. (ILWU) | Lockeford, CA | 04/01/09 | 03/31/09
65729 | Niagara Cutter, Inc. (Wkrs) | Reynoldsville, PA | 04/01/09 | 03/31/09
65730 | Bridgestone APM Plant 1 (Wkrs) | Carey, OH | 04/01/09 | 03/30/09
65731 | Maverick Tube LLC (Comp) | Counce, TN | 04/02/09 | 02/18/09
65732 | Essilor Laboratories of America (Comp) | St. Petersburg, FL | 04/02/09 | 04/01/09
65733 | Wausau Paper Specialty Products, LLC (State) | Jay, ME | 04/02/09 | 04/01/09
65734 | Meridlan Automotive Systems—Plant #5 (Comp) | Grand Rapids, MI | 04/02/09 | 03/20/09
65735 | Johnson Controls, Inc. (State) | Holland, MI | 04/02/09 | 03/01/09
65736 | Idex Solutions (State) | Portland, OR | 04/02/09 | 04/01/09
65737 | Compute Science Corporation (Wkrs) | Caledonia, MI | 04/02/09 | 03/25/09
65738 | Weyerhaeuser Longview Lumber (IAMAW) | Longview, WA | 04/02/09 | 03/17/09
65739 | Eos Airlines Incorporated (Wkrs) | Purchase, NY | 04/02/09 | 03/30/09
65740 | Best Shingle Sales, Inc. (Wkrs) | Hoquiam, WA | 04/03/09 | 04/03/09
65741 | 3M Company (Comp) | Columbia, MO | 04/03/09 | 04/02/09
65742 | Koppy Corporation (State) | Orion, MI | 04/03/09 | 03/04/09
65743 | Lionbridge US, Inc (State) | Waltham, MA | 04/03/09 | 03/27/09
65744 | Marin Independent Journal (Comp) | Novato, CA | 04/03/09 | 03/31/09
65745 | Delphi (Union) | Flint, MI | 04/03/09 | 04/03/09
65746 | Plum Creek Northwest Plywood, Inc. (Comp) | Kalispell, MT | 04/03/09 | 04/02/09
65747 | Parker Hannifin/Nichols Portland Div. (Wkrs) | Portland, ME | 04/03/09 | 03/30/09
65748 | Elkay Manufacturing Company (Comp) | Oak Brook, IL | 04/03/09 | 04/02/09

[FR Doc. E9-9932 Filed 4-29-09; 8:45 am]

BILLING CODE 4510-FN-P